DEPARTMENT OF STATE

[Delegation of Authority No. 266-1]

Delegation of Authority by the Under Secretary for Management for the Adminstrative Collection, Compromise, Suspension, Termination of Department Collection, Advance Decision, Settlement, and Waiver of Claims of or Against Debtors of the Department of State

Section 1. General Delegation

By virtue of the authority vested in me as Under Secretary of State for Management, including under Delegation of Authority No. 198, dated September 16, 1992, I hereby delegate the duties, functions and responsibilities for the administrative collection, compromise, suspension, termination of Department collection, advance decision, settlement, and waiver of claims of or against debtors of the Department of State pursuant to section 211 of the Legislative Branch Appropriation Act, 1996, Public Law 104-53, 109 Stat. 514(1995); the Office of Management and Budget's Determination with Respect to Transfer of Functions Pursuant to Public Law 104-53 (June 30, 1996); sections 103(d), 105(b), 116, and 204 of the General Accounting Office Act of 1996, Public Law 104-316, 110 Stat. 3816 (1996); the Office of Management and Budget's Determination with Respect to Transfer of Functions Pursuant to Public Law 104-316 (December 17, 1996); and Title 31 of the United States Code Chapter 37 to the Chief Financial Officer. I further delegate such authority to additional officers regarding claims for specified amounts as follows:

• Over $35,000 but not more than $50,000: Deputy Chief Financial Officer;

• Up to and including $35,000: Deputy Assistant Secretary for Global Financial Services; and

• Up to and including $500: Principal Officer of the post.

Section 2. Delegation Revoked

The following delegation of authority is hereby revoked: the June 15, 1999, delegation of authority to adjudicate and waive claims of or against the Department of State.

Section 3. General Provisions

(a) This Delegation of authority shall be published in the Federal Register and is effective upon the date of my signature.

(b) Notwithstanding any provision of this Delegation of Authority, the Secretary of State, the Deputy Secretary of State, or the Under Secretary of State for Management may at any time exercise any function delegated by this delegation of authority.

(c) Functions delegated by this delegation of authority may not be redelegated.

(d) Any reference in this delegation of authority to any act, executive order, determination, delegation of authority, regulation, or procedure shall be deemed to be a reference to such act, order, determination, delegation of authority, regulation, or procedure as amended from time to time.

Dated: October 22, 2003.
Grant S. Green, Jr.,
Under Secretary of State for Management, Department of State.

[FR Doc. 03-29310 Filed 11-21-03; 8:45 am]

BILLING CODE 4710-15-P